NATIONAL SCIENCE FOUNDATION

National Science Board and Its Subdivisions; Sunshine Act Meeting

Date and Time: October 15, 2003: 8 a.m.-5:30 p.m.

Concurrent Sessions:

8 a.m.-9:40 a.m.—Open Session

9:40 a.m.-10 a.m.—Closed Session

9 a.m.-10 a.m.—Open Session

10 a.m.-10:20 a.m.—Closed Session

10:20 a.m.-12 Noon—Open Session

12 Noon-12:30 p.m.—Open Session

12:30 p.m.-1 p.m.—Closed Session

1 p.m.-1:45 p.m.—Open Session

1:45 p.m.-2 p.m.—Closed Session

2 p.m.-4 p.m.—Open Session

4 p.m.-5 p.m.—Open Session

October 16, 2003: 8 a.m.-3:35 p.m. Concurrent Sessions:

8 a.m.-9:15 a.m.—Closed Session

9:15 a.m.-10:30 a.m.—Open Session

10:45 a.m.-12:30 p.m.—Closed Session

1 p.m.-3:45 p.m.—Open Session

Place: The National Science Foundation, 4201 Wilson Boulevard, Arlington, VA 22230, http://www.nsf.gov/nsb.

FOR FURTHER INFORMATION CONTACT: NSF Information Center (703) 292-5111.

Status: Part of this meeting will be closed to the public. Part of this meeting will be open to the public.

Matters To Be Considered

Wednesday, October 15, 2003

Open

Committee on Audit and Oversight (8 a.m.-9:40 a.m.) Room 1235:

• Minutes

• CFP Update

• Advisory Committee on GPRA Performance Assessment

• Business Analysis Update

• National Academy of Public Administration's Review of NSF—Update

• Federal Manager's Financial Integrity Act Reporting for FY 2003

• Cost Sharing

• Presentation of the OIG FY 2004 Audit Plan

Subcommittee on S&E Indicators (9 a.m.-10 a.m.) Room 1295:

• Approval of Minutes

• Results of Agency Review

• S&E Indicators 2004 Cover

• S&E Indicators 2004 Companion Piece

Committee on Strategy and Budget (10:20 a.m.-12 noon) Room 1235:

• Approval of Minutes

• Review of Draft Report (required by Section 22 of the NSF Authorization Act)

Executive Committee (12 noon-12:30 p.m.) Room 1295:

• Minutes

• Guidelines for Closed NSB Sessions

Subcommittee on Polar Issues (1 p.m.-1:45 p.m.) Room 1235:

• Approval of Minutes

• OPP Director's Report:

• International Polar Year Planning

• Icebreaker Availability

• Antarctic Treaty Issues

• Tourism

• Canada to Join ATCM

• Briefing on International Arctic Research Center

• Update on MREFC Projects

• South Pole Station Modernization

• LC-130 Conversion

Committee on Education and Human Resources (2 p.m.—4 p.m.) Room 1235:

• Minutes

• Approval of Minutes

• Comments from the Chair

• Status of NWP Task Force Report

• Reports form Working Groups (K-12, Undergraduate & Graduate)

• Report from Subcommittee on S&E Indicators

• Status Report on follow-up of the August 12th Workshop on Broadening Participation

• Report from the EHR AD

• New Business

Ad Hoc Task Group on Long-Lived Data Collections (4 p.m.-5 p.m.) Room 1235:

• Status Report on Workshop

• Terms of Reference

• Date

• Invitees

• Agenda

• White Paper

Closed

Audit & Oversight (9:40 a.m.-10 a.m.) Room 1235:

• Briefing on an Active Investigation

Committee on Strategy & Budget (10 a.m.-10:20 a.m.) Room 1235:

• Budget Update

Executive Committee (12:30 p.m.-1 p.m.) Room 1295:

• Director's Items

• Specific Personnel Matters

• Future Budgets

Thursday, October 16, 2003

Open

Committee on Programs and Plans (9:15 a.m.-10:30 a.m.) Room 1235:

• Minutes/Announcements

• Long-lived Data Collections: Status Report

• Status of the Science & Technology Centers: Integrative Partnership Program

• Cyberinfrastructure

• Polar Subcommittee

Plenary Session of the Board (1 p.m.-3:45 p.m.) Room 1235:

• Minutes

• Closed Items, November 2003

• Chairman's Items

• Director's Items

• Discussion: Update on NSB Elections

• Presentation: Update on S&E visas

• Presentation: OMB Draft Peer Review Standards

• Committee Reports

Closed

Committee on Programs and Plans (8 a.m.-9:15 a.m.) Room 1235:

• NSB Award Action: Division of Ocean Sciences

• NSB Award Action: Division of Biological Infrastructure

• NSB Award Action: Office of Polar Programs

Plenary Session of the Board (10:45 a.m.-12:30 p.m.) Room 1235:

• Closed Minutes

• Award Actions

• Closed Session Committee Reports

Michael P. Crosby,
Executive Officer, NSB.

[FR Doc. 03-25847 Filed 10-7-03; 3:38 pm]

BILLING CODE 7555-01-M